DEPARTMENT OF THE INTERIOR

Minerals Management Service

Notice and Agenda for Meeting of the Royalty Policy Committee of the Minerals Management Advisory Board

AGENCY: Minerals Management Service, Interior.

ACTION: Notice of meeting.

SUMMARY: The Secretary of the Department of the Interior established a Royalty Policy Committee (Committee) on the Minerals Management Advisory Board to provide advice on our management of Federal and Indian minerals leases, revenues, and other minerals related policies. Committee membership includes representatives from States, Indian Tribes and allottee organizations, minerals industry associations, the general public, and other Federal departments.

This will be the eleventh meeting of the Committee. A chairperson will be elected, majority and minority reports on Sodium/Potassium draft valuation regulations will be presented for consideration, and the Coal and Accounting Relief for Marginal Properties subcommittees will present interim reports. We will be prepared to discuss our royalty-in-kind programs, and our administrative appeal procedures. Guest presenters will discuss the State of Texas's program of exchanging natural gas for electricity and the results of a natural gas study.

DATES: Thursday, September 7, 2000, 8:30 a.m. to 5 p.m., Mountain Daylight Savings time.

ADDRESSES: The meeting will be held at the Sheraton Denver West Hotel, 360 Union Boulevard., Lakewood, CO 80228, telephone number (303) 987-2000.

FOR FURTHER INFORMATION CONTACT: Gary L. Fields, Chief, Program Services Office, Royalty Management Program, Minerals Management Service, PO Box 25165, MS 3062, Denver, CO 80225-0165, telephone number (303) 231-3102, fax number (303) 231-3781, e-mail gary.fields@mms.gov.

SUPPLEMENTARY INFORMATION: The location and dates of future meetings will be published in the Federal Register and posted on our Internet site at http://www.rmp.mms.gov/Laws_R_D/RoyPC/RoyPC.htm. Meetings will be open to the public without advanced registration, on a space available basis. The public may make statements during the meetings, to the extent time permits, and file written statements with the Committee for its consideration; copies of these written statements should be submitted to Gary Fields. Within 2 weeks following the conclusion of each meeting, the minutes for the meeting will be available for public inspection and copying at our offices in Building 85 on the Denver Federal Center in Lakewood, Colorado; the minutes will also be posted on our Internet site. These meetings are conducted under the authority of the Federal Advisory Committee Act (Pub. L. 92-463, 5 U.S.C., Appendix 1) and the Office of Management and Budget (Circular No. A-63, revised).

Dated: August 15, 2000.
Lucy Querques Denett,
Associate Director for Royalty Management.

[FR Doc. 00-21227 Filed 8-18-00; 8:45 am]

BILLING CODE 4310-MR-U